DEPARTMENT OF AGRICULTURE

Agricultural Marketing Service

7 CFR Part 1230

[Doc. No. AMS-LS-07-0143]

Pork Promotion, Research, and Consumer Information Program; Section 610 Review

AGENCY: Agricultural Marketing Service, USDA.

ACTION: Confirmation of regulations.

SUMMARY: This document summarizes the results of an Agricultural Marketing Service (AMS) review of the Pork Promotion, Research, and Consumer Information Program (Program), commonly known as the Pork Checkoff Program, under the criteria contained in section 610 of the Regulatory Flexibility Act (RFA). Based upon this review, AMS concluded that there is a continued need for the Pork Promotion, Research, and Consumer Information Order (Order). Copies of the review performed by AMS are available to interested parties.

DATES: Effective March 8, 2013.

ADDRESSES: Interested persons may obtain a copy of the review. Requests for copies should be sent to Kenneth R. Payne, Director, Marketing Programs Division, Livestock and Seed Program, AMS, USDA, Room 2628-S, STOP 0251, 1400 Independence Avenue SW, Washington, DC 20250-0251 or email Kenneth.Payne@ams.usda.gov.

FOR FURTHER INFORMATION CONTACT: Kenneth R. Payne, Director, Marketing Programs Division, Livestock and Seed Program, AMS, USDA, Room 2628-S, STOP 0251, 1400 Independence Avenue SW, Washington, DC 20250-0251 or email Kenneth.Payne@ams.usda.gov.

SUPPLEMENTARY INFORMATION: The Order (7 CFR Part 1230) is authorized under the Pork Promotion, Research, and Consumer Information Act of 1985 (Act) (7 U.S.C. 4801-4819). As part of a comprehensive strategy to strengthen the pork industry's position in the marketplace, this national pork Program maintains and expands existing domestic and foreign markets and develops new markets for pork and pork products. The Program is funded by a mandatory assessment of $0.40 per-hundred-dollars of market value. Nearly all producers, with few exceptions, owning and marketing swine, regardless of the size of their operation or the value of their swine, must pay the assessment. A comparable assessment is collected on all imported swine, pork, and pork products. Assessments collected under this Program are used for promotion, research, consumer information, and industry information.

The Program is administered by the National Pork Board (Board), which is composed of 15 producer members. Board members serve 3-year terms, but no individual may serve more than two consecutive 3-year terms. Producer members are selected by the National Pork Producers Delegate Body, a group of producer and importer members that represent all 50 States and importers. The Program became effective on September 5, 1986, when the Order was issued. Assessments began on November 1, 1986.

On February 18, 1999, AMS published in the Federal Register (64 FR 8014) its plan to review certain regulations. On January 4, 2002, AMS published in the Federal Register (67 FR 525) an update to its plan to review regulations, including the Pork Promotion and Research Program, which is conducted under the Order, under criteria contained in section 610 of the RFA (5 USC 601-612). Additional updates were provided on August 14, 2003, in the Federal Register (68 FR 48575) and on March 24, 2006, in the Federal Register (71 FR 14827). Because many AMS regulations impact small entities, AMS decided, as a matter of policy, certain regulations warranted review, although they may not meet the threshold requirement under section 610 of the RFA.

The reviews are being conducted over a ten-year period under section 610 of the RFA. The Program was reviewed for the purpose of determining whether it should be continued without change, or should be amended, rescinded, or terminated (consistent with the objectives of applicable statutes) to minimize the impacts on small entities.

AMS published a notice for review and request for written comments on the Order in the March 27, 2008, issue of the Federal Register (73 FR 16218).

Comments were due May 27, 2008. USDA received one comment generally opposing the Program, which did not specifically address the criteria provided under section 610 of the RFA.

The review was undertaken to determine whether the Order should be continued without change, amended, or rescinded (consistent with the objectives of the Act) to minimize the impacts on small entities. In conducting this review and using the guidance set forth in section 610 of the RFA, AMS considered the following factors: (1) The continued need for the Order; (2) the nature of complaints or comments received from the public concerning the Order; (3) the complexity of the Order; (4) the extent to which the Order overlaps, duplicates, or conflicts with other Federal rules, and, to the extent feasible, with State and local governmental rules; and (5) the length of time since the Order has been evaluated or the degree to which technology, economic conditions or other factors have changed in the area affected by the Order.

Based upon this review, AMS has concluded that there is continued need for the Order. AMS plans to continue working with the pork industry in maintaining an effective program. Interested parties may request a copy of the review by AMS as set forth in this Confirmation of Regulations.

Authority: 7 U.S.C. 4801-4819.

Dated: February 28, 2013.
David R. Shipman,
Acting Administrator, Agricultural Marketing Service.

[FR Doc. 2013-05432 Filed 3-7-13; 8:45 am]

BILLING CODE 3410-02-P